DEPARTMENT OF COMMERCE

National Oceanic and Atmospheric Administration

50 CFR Part 660

[Docket No. 070703215-7530-02]

RIN 0648-AU08

Fisheries off West Coast States; Pacific Coast Groundfish Fishery; Vessel Monitoring System; Open Access Fishery; Correction

AGENCY: National Marine Fisheries Service (NMFS), National Oceanic and Atmospheric Administration (NOAA), Commerce.

ACTION: Final rule; correction.

SUMMARY: This action corrects a final rule that was published in the Federal Register on December 7, 2007, and which becomes effective February 4, 2008. The final rule requires all vessels fishing pursuant to the harvest guidelines, quotas, and other management measures governing the open access groundfish fishery, and all non-groundfish trawl vessels to provide declaration reports and to activate and use a vessel monitoring system (VMS) transceiver unit while fishing off the coasts of Washington, Oregon and California. This action corrects an incorrect cross reference in the final rule which allows vessels that leave the open access fishery to obtain an exemption from the VMS reporting requirements.

DATES: Effective February 27, 2008.

FOR FURTHER INFORMATION CONTACT: Becky Renko at 206-526-6110.

SUPPLEMENTARY INFORMATION: This final rule is accessible via the Internet at the Office of the Federal Register's Website at http://www.gpoaccess.gov/fr/index.html. Background information and documents are available at the Pacific Fishery Management Council's (Council's) website at http://www.pcouncil.org/.

A final rule to expand the Pacific Coast groundfish fishery vessel monitoring system (VMS) program to include the open access and non-groundfish trawl fisheries was published in the Federal Register on December 7, 2007 (72 FR 69162). The final rule contained an error that needs to be corrected. The final rule, which becomes effective on February 4, 2008, requires all vessels fishing pursuant to the harvest guidelines, quotas, and other management measures governing the open access groundfish fishery and all non-groundfish trawl vessels to provide declaration reports and to activate and use a VMS transceiver while fishing in the exclusive economic zone (EEZ) off the coasts of Washington, Oregon and California.

In the drafting of the rule language an incorrect cross reference at § 660.312 (d)(4)(iv) to § 660.312 (b)(2) results in a substantive change in the regulatory requirements. The inclusion of the incorrect cross reference would allow vessels using non-groundfish trawl gear to request and receive an exemption to the VMS program hourly reporting requirements if they do not retain groundfish from the EEZ. This exemption is inconsistent with the structure and purpose of the VMS program. The VMS program requires vessels using non-groundfish trawl gear to have and use VMS if they fish in the EEZ whether or not groundfish are retained. The VMS program is intended to provide for monitoring of compliance with essential fish habitat conservation (EFH) areas where the use of bottom trawl gear is prohibited regardless of whether groundfish are retained in order to protect the bottom habitat. The attached correction is needed so the regulatory language implements the action recommended by the Council and analyzed in the environmental assessment.

Classification

The Assistant Administrator (AA) for Fisheries, NOAA, finds good cause to waive the requirement to provide prior notice and opportunity for public comment on this action pursuant to 5 U.S.C. 553(b)(B), because providing prior notice and opportunity for comment would be impracticable and contrary to the public interest. NMFS had mis-published this exemption allowance in its final rule (72 FR 69162, December 7, 2008). If this correction were not made promptly, some non-groundfish trawl vessels may operate in the EEZ without VMS and NMFS would be unable to monitor fishing relative to Essential Fish Habitat (EFH) conservation areas where trawling is prohibited in order to protect groundfish habitat. Because a notice and comment rulemaking may take several months to implement it would likely not be effective until after the start of the pink shrimp trawl fishery, a major non-groundfish trawl fishery. In addition, several smaller non-groundfish trawl fisheries may also be currently operating. If purchase of a VMS unit is delayed, reimbursement funds for the purchase of a VMS unit may be unavailable. If reimbursement funds are not available, individual vessel owners would incur the cost of purchasing VMS units. Therefore, it is impracticable and contrary to the public interest to provide prior notice and an opportunity for public comment on this correction.

Dated: January 23, 2008.
Samuel D. Rauch III,
Deputy Assistant Administrator for Regulatory Programs, National Marine Fisheries Service.

For the reasons set out in the preamble, 50 CFR part 660 is corrected by making the following correcting amendments:

PART 660—FISHERIES OFF WEST COAST STATES AND IN THE WESTERN PACIFIC

1. The authority citation for part 660 continues to read as follows:

Authority: 16 U.S.C. 1801 et seq.

2. In § 660.312, paragraph (d)(4)(iv) is revised to read as follows:

§ 660.312 Vessel Monitoring System (VMS) requirements.

(d)* * *

(4)* * *

(iv) Long-term departure exemption. A vessel participating in the open access fishery that is required to have VMS under § 660.312 (b)(3) may be exempted from VMS provisions after the end of the fishing year in which it participated in the open access fishery, providing the vessel submits a completed exemption report signed by the vessel owner that includes a statement signed by the vessel owner indicating that the vessel will not be used to take and retain or possess groundfish in the EEZ or land groundfish taken in the EEZ during the new fishing year.

[FR Doc. E8-1430 Filed 1-25-08; 8:45 am]

BILLING CODE 3510-22-S